SECURITIES AND EXCHANGE COMMISSION

17 CFR Part 270

[Release No. IC-24828A; File No. S7-11-97]

RIN 3235-AH11

Investment Company Names; Correction

AGENCY: Securities and Exchange Commission.

ACTION: Correction to final rule.

SUMMARY: This document contains a correction to rule 35d-1 under the Investment Company Act of 1940, which was published on February 1, 2001 (66 FR 8509). Rule 35d-1 addresses certain broad categories of investment company names that are likely to mislead investors about an investment company's investments and risks.

EFFECTIVE DATE: March 14, 2001.

FOR FURTHER INFORMATION CONTACT: Paul G. Cellupica, Senior Special Counsel, (202) 942-0721, in the Division of Investment Management, Securities and Exchange Commission, 450 5th Street, NW., Washington, DC 20549-0506.

SUPPLEMENTARY INFORMATION: The Securities and Exchange Commission published in the Federal Register of February 1, 2001 (66 FR 8509) new rule 35d-1 under the Investment Company Act of 1940 to address certain broad categories of investment company names that are likely to mislead investors about an investment company's investments and risks.¹ This release corrects a typographical error in the text of the rule.

¹ Investment Company Act Release No. 24828 (January 17, 2001) (66 FR 8509 (February 1, 2001)).

Correction of Publication

Accordingly, the publication on February 1, 2001, of the final rule relating to investment company names which was the subject of FR Doc. 01-1967, is corrected as follows:

On page 8519, in § 270.35d-1(a)(4), revise the citation “(15 U.S.C. 80-8(b)(3))”to read “(15 U.S.C. 80a-8(b(3))”.

By the Commission.
Dated: March 8, 2001.
Margaret H. McFarland,
Deputy Secretary.

[FR Doc. 01-6276 Filed 3-13-01; 8:45 am]

BILLING CODE 8010-01-M